DEPARTMENT OF ENERGY

Federal Energy Regulatory Commission

Combined Notice of Filings #1

Take notice that the Commission received the following electric corporate filings:

Docket Numbers: EC12-122-000.

Applicants: DTE Energy Services, Inc.

Description: Application under Section 203 of the FPA of DTE Energy Services, Inc.

Filed Date: 7/20/12.

Accession Number: 20120720-5100.

Comments Due: 5 p.m. ET 8/10/12.

Take notice that the Commission received the following electric rate filings:

Docket Numbers: ER10-1459-004.

Applicants: FirstEnergy Solutions Corp.

Description: Revised Affiliate Sales to be effective 6/1/2012.

Filed Date: 7/20/12.

Accession Number: 20120720-5103.

Comments Due: 5 p.m. ET 8/10/12.

Docket Numbers: ER10-2719-007; ER10-2718-007; ER10-2578-009; ER10-2633-007; ER10-2570-007; ER10-2717-007; ER10-3140-006.

Applicants: East Coast Power Linden Holding, L.L.C., Cogen Technologies Linden Venture, L.P., Fox Energy Company, LLC, Birchwood Power Partners, L.P., Shady Hills Power Company LLC, EFS Parlin Holdings, L.L.C., Inland Empire Energy Center, LLC.

Description: Supplement to Notice of Non-material Change in Status of East Coast Power Linden Holding, L.L.C., et al.

Filed Date: 7/20/12.

Accession Number: 20120720-5022.

Comments Due: 5 p.m. ET 8/10/12.

Docket Numbers: ER12-1417-003.

Applicants: San Diego Gas & Electric Company.

Description: Errata to SDGE Appendix X Compliance Filing to be effective 6/1/2012.

Filed Date: 7/20/12.

Accession Number: 20120720-5000.

Comments Due: 5 p.m. ET 8/10/12.

Docket Numbers: ER12-1586-001.

Applicants: Southwest Power Pool, Inc.

Description: Response to Deficiency Letter Docket No. ER12-1586 to be effective 4/30/2012.

Filed Date: 7/20/12.

Accession Number: 20120720-5002.

Comments Due: 5 p.m. ET 8/10/12.

Docket Numbers: ER12-1600-001.

Applicants: Southwest Power Pool, Inc.

Description: 2413 Exelon Market Participant Compliance Filing ER12-1600 to be effective 4/1/2012.

Filed Date: 7/20/12.

Accession Number: 20120720-5109.

Comments Due: 5 p.m. ET 8/10/12.

Docket Numbers: ER12-1685-001.

Applicants: Golden Spread Electric Cooperative, Inc.

Description: Revised Wholesale Power Contracts Filing to be effective 7/20/2012.

Filed Date: 7/20/12.

Accession Number: 20120720-5043.

Comments Due: 5 p.m. ET 8/10/12.

Docket Numbers: ER12-1753-000.

Applicants: Wyoming Colorado Intertie, LLC.

Description: Response to Staff Letter to be effective N/A.

Filed Date: 7/20/12.

Accession Number: 20120720-5040.

Comments Due: 5 p.m. ET 8/10/12.

Docket Numbers: ER12-1846-001.

Applicants: Michigan Electric Transmission Company, LLC.

Description: Certificate of Concurrence to be effective 7/10/2012.

Filed Date: 7/20/12.

Accession Number: 20120720-5056.

Comments Due: 5 p.m. ET 8/10/12.

Docket Numbers: ER12-1997-001.

Applicants: South Jersey Energy ISO1, LLC.

Description: Amendment to be effective 7/1/2012.

Filed Date: 7/20/12.

Accession Number: 20120720-5062.

Comments Due: 5 p.m. ET 8/10/12.

Docket Numbers: ER12-1998-001.

Applicants: South Jersey Energy ISO2, LLC.

Description: Amendment to be effective 7/1/2012.

Filed Date: 7/20/12.

Accession Number: 20120720-5063.

Comments Due: 5 p.m. ET 8/10/12.

Docket Numbers: ER12-2051-002.

Applicants: SPS Alpaugh 50, LLC.

Description: Amended Application for Market-Based Rates to be effective 8/20/2012.

Filed Date: 7/20/12.

Accession Number: 20120720-5085.

Comments Due: 5 p.m. ET 8/10/12.

Docket Numbers: ER12-2052-002.

Applicants: SPS Alpaugh North, LLC.

Description: Amended Market-Based Rates Application to be effective 8/20/2012.

Filed Date: 7/20/12.

Accession Number: 20120720-5088.

Comments Due: 5 p.m. ET 8/10/12.

Docket Numbers: ER12-2217-001.

Applicants: Power Dave Fund LLC.

Description: Power Dave Fund Tariff to be effective 7/20/2012.

Filed Date: 7/20/12.

Accession Number: 20120720-5006.

Comments Due: 5 p.m. ET 8/10/12.

Docket Numbers: ER12-2217-002.

Applicants: Power Dave Fund LLC.

Description: Power Dave Compliance Filing to be effective 7/20/2012.

Filed Date: 7/20/12.

Accession Number: 20120720-5064.

Comments Due: 5 p.m. ET 8/10/12.

Docket Numbers: ER12-2277-000.

Applicants: Midwest Independent Transmission System Operator, Inc.

Description: SA2457 Pheasant Ridge Wind Farm-ITC Midwest to be effective 7/21/2012.

Filed Date: 7/20/12.

Accession Number: 20120720-5026.

Comments Due: 5 p.m. ET 8/10/12.

Docket Numbers: ER12-2279-000.

Applicants: Southern California Edison Company.

Description: Notices of Cancellation to SGIA and DSA 2MW San Bernardino Roof Top Solar Project to be effective 7/25/2012.

Filed Date: 7/20/12.

Accession Number: 20120720-5045.

Comments Due: 5 p.m. ET 8/10/12.

Docket Numbers: ER12-2280-000.

Applicants: PJM Interconnection, L.L.C.

Description: First Revised Service Agreement No. 2860—Queue Position V1-026 & V1-027 to be effective 6/22/2012.

Filed Date: 7/20/12.

Accession Number: 20120720-5055.

Comments Due: 5 p.m. ET 8/10/12.

Docket Numbers: ER12-2281-000.

Applicants: Southern California Edison Company.

Description: Amended SGIA and DSA to 13230 San Bernardino Ave Fontana Roof Top Solar Project to be effective 7/21/2012.

Filed Date: 7/20/12.

Accession Number: 20120720-5060.

Comments Due: 5 p.m. ET 8/10/12.

Docket Numbers: ER12-2282-000.

Applicants: Carolina Power & Light Company.

Description: Service Agreement No. 324 under Carolina Power and Light Company OATT to be effective 7/1/2012.

Filed Date: 7/20/12.

Accession Number: 20120720-5061.

Comments Due: 5 p.m. ET 8/10/12.

Docket Numbers: ER12-2283-000

Applicants: Midwest Independent Transmission System Operator, Inc.

Description: SA AMP-BREC GIA G848 to be effective 7/21/2012.

Filed Date: 7/20/12.

Accession Number: 20120720-5089.

Comments Due: 5 p.m. ET 8/10/12.

Docket Numbers: ER12-2284-000.

Applicants: Carolina Power & Light Company.

Description: Notice of Cancellation of NITSA and NOA with Fayetteville Public Works Commission by Carolina Power & Light Company.

Filed Date: 7/20/12.

Accession Number: 20120720-5117.

Comments Due: 5 p.m. ET 8/10/12.

Docket Numbers: ER12-2285-000.

Applicants: Hartford Steam Company, LLC.

Description: Cancellation of MBR tariff to be effective 7/21/2012.

Filed Date: 7/20/12.

Accession Number: 20120720-5125.

Comments Due: 5 p.m. ET 8/10/12

Docket Numbers: ER12-2286-000

Applicants: Imperial Valley Solar 1, LLC

Description: Co-Tenancy, and Shared Use Agreement to be effective 9/18/2012.

Filed Date: 7/20/12

Accession Number: 20120720-5126

Comments Due: 5 p.m. ET 8/10/12

Take notice that the Commission received the following public utility holding company filings:

Docket Numbers: PH12-19-000

Applicants: Valener Inc.

Description: Notice of Material Change in Facts of Valener Inc.

Filed Date: 7/20/12

Accession Number: 20120720-5082

Comments Due: 5 p.m. ET 8/10/12

Docket Numbers: PH12-20-000

Applicants: Central Vermont Public Service Corporation

Description: Notice of Material Change in Facts of Central Vermont Public Service Corporation.

Filed Date: 7/20/12

Accession Number: 20120720-5083

Comments Due: 5 p.m. ET 8/10/12

Docket Numbers: PH12-21-000

Applicants: Enbridge Inc.

Description: Notice of material change in facts of Enbridge Inc.

Filed Date: 7/20/12

Accession Number: 20120720-5159

Comments Due: 5 p.m. ET 8/10/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2012.
Nathaniel J. Davis, Sr.,
Deputy Secretary.

[FR Doc. 2012-18607 Filed 7-30-12; 8:45 am]

BILLING CODE 6717-01-P